FEDERAL COMMUNICATIONS COMMISSION

47 CFR Part 76

[CS Docket No. 00-2; FCC 02-287]

Implementation of the Satellite Home Viewer Improvement Act of 1999: Application of Network Non-Duplication, Syndicated Exclusivity, and Sports Blackout Rules to Satellite Retransmissions of Broadcast Signals

AGENCY: Federal Communications Commission.

ACTION: Final rule; announcement of effective date.

SUMMARY: This document announces the effective date of certain sections of the Commission's network non-duplication protection, syndicated exclusivity and sports blackout protection rules. Certain sections of the rule contained information collection requirements that required the approval of the Office of Management and Budget (“OMB”) before they could become effective. Those sections of the network non-duplication protection, syndicated exclusivity and sports blackout protection rules have been approved by OMB.

DATES: The amendments to 47 CFR 76.122(c)(2) and 76.127(c), published at 67 FR 68944, November 14, 2002, will become effective on March 25, 2003.

FOR FURTHER INFORMATION CONTACT: Peter Corea of the Policy Division, Media Bureau at (202) 418-7200, TTY (202) 418-7172, or via Internet at pcorea@fcc.gov.

SUPPLEMENTARY INFORMATION: On October 17, 2002, the Commission released an Order on Reconsideration in CS Docket No. 00-2, pertaining to the Commission's network non-duplication, syndicated exclusivity and sports blackout rules as applied to satellite retransmission of broadcast signals. A summary of the Order on Reconsideration was published in the Federal Register at 67 FR 68944, November 14, 2002. The Order on Reconsideration made revisions to conform the satellite rules to the cable rules and amended a rule to permit sports rights holders with a discernable season to submit blackout notifications for an entire season, but also to establish a date certain by when those notifications must be received by satellite carriers. Sections 76.122(c)(2) and 76.127(c) of the rules contained new or modified information collection requirements that required OMB approval before they could become effective. The Commission received OMB approval for the information collection requirements on March 10, 2003. See OMB No. 3060-0960, 67 FR 5291, February 3, 2003. Accordingly, §§ 76.122(c)(2) and 76.127(c) of the rules will become effective on March 25, 2003. This document constitutes publication of the effective date of those sections.

Pursuant to the Paperwork Reduction Act of 1995, Pub. L. 96-511, an agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Les Smith, Federal Communications Commission, (202) 418-0217.

Federal Communications Commission.
Marlene H. Dortch,
Secretary.

[FR Doc. 03-6969 Filed 3-24-03; 8:45 am]

BILLING CODE 6712-01-P